DEPARTMENT OF DEFENSE

GENERAL SERVICES ADMINISTRATION

NATIONAL AERONAUTICS AND SPACE ADMINISTRATION

[OMB Control No. 9000-0012; Docket 2013-0077; Sequence 11]

Information Collection; OMB Control No. 9000-0012, Termination Settlement Proposal Forms—FAR (Standard Forms 1435 Through 1440)

AGENCY: Department of Defense (DOD), General Services Administration (GSA), and National Aeronautics and Space Administration (NASA).

ACTION: Notice of request for public comments regarding an extension, with changes, to an existing OMB clearance.

SUMMARY: Under the provisions of the Paperwork Reduction Act, the Regulatory Secretariat will be submitting to the Office of Management and Budget (OMB) a request to review and approve an extension of a previously approved information collection requirement concerning Termination Settlement Proposal Forms—FAR (Standard Forms 1435 through 1440), as prescribed at FAR subpart 49.6, Contract Termination Forms and Formats.

DATES: Submit comments on or before November 25, 2013.

ADDRESSES: Submit comments identified by Information Collection 9000-0012 by any of the following methods:

• Regulations.gov: http://www.regulations.gov. Submit comments via the Federal eRulemaking portal by inputting “Information Collection 9000-0012” under the heading “Enter Keyword or ID” and selecting “Search”. Select the link “Submit a Comment” that corresponds with “Information Collection 9000-0012”. Follow the instructions provided at the “Submit a Comment” screen. Please include your name, company name (if any), and “Information Collection 9000-0012” on your attached document.

• Fax: 202-501-4067.

• Mail: General Services Administration, Regulatory Secretariat (MVCB), 1800 F Street NW., 2nd Floor, Washington, DC 20405-0001. ATTN: Hada Flowers/IC 9000-0012.

Instructions: Please submit comments only and cite Information Collection 9000-0012, in all correspondence related to this collection. Submit comments regarding this burden estimate or any other aspect of this collection of information, including suggestions for reducing this burden to: FAR Desk Officer. All comments received will be posted without change to http://www.regulations.gov, including any personal and/or business confidential information provided.

FOR FURTHER INFORMATION CONTACT: Mr. Curtis E. Glover, Procurement Analyst, Federal Acquisition Policy Division, at (202) 501-1448 or Curtis.glover@gsa.gov.

SUPPLEMENTARY INFORMATION:

A. Purpose

The termination settlement proposal forms (Standard Forms 1435 through 1440) provide a standardized format for listing essential cost and inventory information needed to support the terminated contractor's negotiation position per FAR subpart 49.6—Contract Termination Forms and Formats. Submission of the information assures that a contractor will be fairly reimbursed upon settlement of the terminated contract.

B. Annual Reporting Burden

Based on data retrieved from the Federal Procurement Data System (FPDS) there was an estimated average of 10,152 contracts to 5,949 unique vendors that would have been subject to the termination settlement proposal forms (Standard Forms 1435 through 1440). This data was based on the estimate average number of terminations for convenience (complete or partial) for Fiscal Years, 2010, 2011, and 2012. In consultation with subject matter experts, it was determined that the 5,949 unique vendors was a sufficient baseline for estimating the number of respondents. It is therefore estimated that approximately 5,949 respondents would need to comply with this information collection. The estimated number of responses per respondent for this information collection is based on an estimated average number of respondents divided by the estimated average number of unique vendors (1.7). Additionally, in discussion with subject matter experts, it was estimated that the previously approved burden hours per response of 2.4 hours is still relevant for this information collection. No public comments were received in prior years that have challenged the validity of the Government's estimate. The revisions to this information collection reflect a significant upward adjustment from what was published in the Federal Register at 75 FR 63831 on October 18, 2010. This increase is based on a revision to the estimated number of respondents that would be subject to this information collection.

Respondents: 5,949.

Responses Per Respondent: 1.7.

Total Responses: 10,113.

Hours Per Response: 2.4.

Total Burden Hours: 24,271.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requester may obtain a copy of the proposal from the General Services Administration, Regulatory Secretariat (MVCB), 1800 F Street NW., 2nd Floor, Washington, DC 20405-0001, telephone (202) 501-4755. Please cite OMB Control No. 9000-0012, Termination Settlement Proposal Forms—FAR (SF's 1435 through 1440), in all correspondence.

Dated: September 17, 2013.
Karlos Morgan,
Acting Director, Federal Acquisition Policy Division, Office of Governmentwide Acquisition Policy, Office of Governmentwide Policy, Office of Acquisition Policy.

[FR Doc. 2013-23308 Filed 9-24-13; 8:45 am]

BILLING CODE 6820-24-P